SECURITIES AND EXCHANGE COMMISSION

[Release No. 34-51893; International Series Release No. 1291]

List of Foreign Issuers That Have Submitted Information Under the Exemption Relating to Certain Foreign Securities

June 21, 2005.

Foreign private issuers with total assets in excess of $10,000,000 and a class of equity securities held of record by 500 or more persons, of which 300 or more reside in the United States, are subject to registration under Section 12(g) of the Securities Exchange Act of 1934 ¹ (the “Act”).²

¹ 15 U.S.C. 78a et seq.

² Foreign issuers may also be subject to the registration requirements of the Act by reason of having securities registered and listed on a national securities exchange in the United States, and may be subject to the reporting requirements of the Act by reason of having registered securities under the Securities Act of 1933, 15 U.S.C. 77a et seq.

Rule 12g3-2(b) ³ provides an exemption from registration under Section 12(g) of the Act with respect to a foreign private issuer that submits to the Commission, on a current basis, the material required by the rule. The informational requirements are designed to give investors access to certain information so they have the opportunity to inform themselves about the issuer. The rule requires the issuer to provide the Commission with information that it: (1) Has made or is required to make public pursuant to the law of the country of its domicile or in which it is incorporated or organized; (2) has filed or is required to file with a stock exchange on which its securities are traded and that was made public by such exchange; and/or (3) has distributed or is required to distribute to its security holders.

³ 17 CFR 240.12g3-2(b).

When the Commission adopted Rule 12g3-2(b) and other rules ⁴ relating to foreign securities, it indicated that from time to time it would publish lists of foreign issuers that have claimed exemptions from the registration provisions of Section 12(g) of the Act.⁵ The purpose of this release is to assist in making brokers, dealers, and investors aware that some form of relatively current information concerning the issuers included in this list is available in our public files.⁶ We also wish to bring to the attention of brokers, dealers, and investors the fact that current information concerning foreign issuers may not necessarily be available in the United States.⁷ We continue to expect that brokers and dealers will consider this fact in connection with their obligations under the federal securities laws to have a reasonable basis for recommending those securities to their customers.⁸

⁴ Exchange Act Release No. 8066 (April 28, 1967).

⁵ Exchange Act Release No. 49846; International Series Release No. 1277 (June 10, 2004) was the last such list.

⁶ Inclusion of an issuer on the list in this release is not an affirmation by the Commission that the issuer has complied or is complying with all the conditions of Rule12g3-2(b). The list does identify the issuers that have both claimed the exemption and have submitted relatively current information to the Commission as of June 15, 2005.

⁷ Paragraph (a)(4) of Rule 15c2-11 [17 CFR 240.15c2-11] requires a broker-dealer initiating a quotation for securities of a foreign private issuer to review, maintain in its files, and make reasonably available upon request the information furnished to the Commission pursuant to Rule 12g3-2(b) since the beginning of the issuer's last fiscal year.

⁸ See, e.g., Hanley v. SEC, 415 F.2d 589 (2d Cir. 1969) (broker-dealer cannot recommend a security unless an adequate and reasonable basis exists for such recommendation).

You may direct any questions regarding Rule 12g3-2 or the list of issuers in this release to Susan Min, Office of International Corporate Finance, Division of Corporation Finance, Securities and Exchange Commission, Room 3628, Washington, DC 20549, (202) 551-3450. This release is available on the Commission's Web site at http://www.sec.gov/rules/other.shtml. Requests for copies may also be directed to the Public Reference Desk, Securities and Exchange Commission, Washington, DC 20549, (202) 551-8090.

For the Commission, by the Division of Corporation Finance, pursuant to delegated authority.
Jill M. Peterson,
Assistant Secretary.

Company name | Country | File No.
4 Imprint Group plc | United Kingdom | 82-5104
AB Lietuvos Telekomas | Lithuania | 82-5086
ABSA Group Ltd | South Africa | 82-4569
Acclaim Energy Trust | Canada | 82-34789
Accor S.A | France | 82-4672
ACOM Co. Ltd | Japan | 82-4121
Adidas Salomon AG | Germany | 82-4278
Advantage Energy Income Fund | Canada | 82-34742
AEM S.p.A | Italy | 82-4911
AEON Co. Ltd | Japan | 82-34806
Aeroflot Russian International Airlines | Russia | 82-4592
Africa Israel Investments Ltd | Israel | 82-34865
African Bank Investments | South Africa | 82-34828
African Marine Minerals Corp | Canada | 82-3329
Afrikander Lease Lt+A391d | South Africa | 82-34632
Agenix Ltd | Australia | 82-34639
Agricore United | Canada | 82-34725
AIFUL Corp | Japan | 82-4802
Airspray N.V | Netherlands | 82-34700
Akbank T.A.S | Turkey | 82-34825
Alchemia Ltd | Australia | 82-34820
Aldeasa S.A | Spain | 82-4774
Alea Group Holdings (Bermuda) Ltd | Bermuda | 82-34885
All Nippon Airways Co. Ltd | Japan | 82-1569
Altai Resources, Inc | Canada | 82-2950
Altran Technologies S.A | France | 82-5164
Amadeus Global Travel Distribution S.A | Spain | 82-5173
AMEC plc | United Kingdom | 82-34881
American Manor Corp | Canada | 82-4158
AMP Ltd | Australia | 82-34713
AMRAD Corp. Ltd | Australia | 82-4867
AmSteel Corp Berhad | Malaysia | 82-3318
Angang New Steel Co. Ltd | China | 82-34663
Anglo American Corp. of South Africa | South Africa | 82-97
Anglo Irish Bank Corp. plc | Ireland | 82-3791
Antisense Therapeutics Limited | Australia | 82-34841
Antofagasta plc | United Kingdom | 82-4987
AO Mosenergo | Russia | 82-4475
AO Samaraenergo | Russia | 82-4708
AO Surgutneftegas | Russia | 82-4302
AO TD Gum | Russia | 82-4132
APF Energy Trust | Canada | 82-5166
Applied Gaming Solutions of Canada Inc | Canada | 82-4832
Aquarius Platinum Ltd | Bermuda | 82-5097
Arcelor SA | Luxembourg | 82-34727
Arcon International Resources plc | Ireland | 82-4803
Argent Resources Ltd | Canada | 82-5091
Arisawa Manufacturing Co. Ltd | Japan | 82-4620
Aristocrat Leisure Ltd | Australia | 82-34870
Ark Therapeutics PLC | United Kingdom | 82-34804
Artel Solutions Group Holdings Limited | Cayman Islands | 82-34697
Asia Fiber Public Co. Ltd | Thailand | 82-2842
Assa Abloy AB | Sweden | 82-34735
Astro All Asian Networks plc | United Kingdom | 82-34815
Atco Ltd | Canada | 82-34745
Atlas Copco | Sweden | 82-812
Aur Resources Inc | Canada | 82-4624
Aurora Platinum Inc | Canada | 82-34760
Austal Limited | Australia | 82-34830
Australian Cancer Technology | Australia | 82-34787
Australian Gas Light Company | Australia | 82-4797
Austriamicrosystems AG | Austria | 82-34824
Austrian Airlines | Austria | 82-4970
Auterra Ventures Inc | Canada | 82-4653
Avgold Ltd | South Africa | 82-4482
BAA plc | United Kingdom | 82-3372
Bacardi Ltd | Bermuda | 82-4992
BAE Systems PLC | United Kingdom | 82-3138
Bahia Sul Celulose | Brazil | 82-3138
Banca Popolare di Lodi | Italy | 82-4855
Banco Venezolano de Credito SA Banco Universal | Venezuela | 82-4422
Bandai Co. Ltd | Japan | 82-3919
Bangkok Bank Public Co. Ltd | Thailand | 82-4835
Bank Austria Creditanstalt AG | Austria | 82-34765
Bank of East Asia Ltd | Hong Kong | 82-3443
Bank of Fukuoka Ltd | Japan | 82-1117
Bank of Yokohama Ltd | Japan | 82-34814
Bank Vozrozhdeniye | Russia | 82-4257
BankInter S.A | Spain | 82-2972
Bayerische Hypotheken Und Wechsel Bank AG | Germany | 82-3777
BCE Emergis Inc | Canada | 82-5206
Bear Creek Energy Ltd | Canada | 82-34851
Beijing Enterprises Holdings Ltd | Hong Kong | 82-34642
Belgacom | Belgium | 82-34871
Belluna Co. Ltd | Japan | 82-5233
Benfield Group Ltd | Bermuda | 82-34726
Beru AG | Germany | 82-34750
Bespak plc | United Kingdom | 82-3349
BHP Steel Ltd | Australia | 82-34676
BioMS Medical Corp | Canada | 82-34689
Bionomics Limited | Australia | 82-34682
Blackrock Ventures Inc | Canada | 82-4555
BNP Paribas | France | 82-3757
BOC Hong Kong Holdings Ltd | Hong Kong | 82-34675
Bohler Uddeholm AG | Austria | 82-4089
Bombardier Inc | Canada | 82-3123
Boots Group plc | United Kingdom | 82-34701
Boss Gold Corp | Canada | 82-4571
Bradford & Bingley plc | United Kingdom | 82-5154
Brambles Industries plc | United Kingdom | 82-5205
Bresagen Ltd | Australia | 82-5135
Bridgestone Corp | Japan | 82-1264
BRISA Auto Estradas de Portugal S.A | Portugal | 82-34855
Bulgari S.p.A | Italy | 82-34836
Bull | France | 82-4847
Burberry Group plc | United Kingdom | 82-34691
BWT Aktiengesellschaft | Austria | 82-5221
C&C Group plc | Ireland | 82-34854
C.I. Fund Management Inc | Canada | 82-4994
Cal-Star Inc | Canada | 82-2406
Canadian Oil Sands Trust | Canada | 82-5189
Canadian Utilities Ltd | Canada | 82-34744
Canadian Western Bank | Canada | 82-4478
Cap Gemini S.A | France | 82-5065
Capitaland Ltd | Singapore | 82-4507
Carl Zeiss Meditec AG | Germany | 82-34817
Cassa di Risparmio di Firenze S.p.A | Italy | 82-5126
Cathay Pacific Airlines Ltd | Hong Kong | 82-1390
Catlin Group Ltd | Bermuda | 82-34808
Cementos Lima S.A | Peru | 82-3911
Central Termica Guemas S.A | Argentina | 82-5145
Cerveceria Nacional S.A | Panama | 82-4704
CESP Companhia Energetica de Sao Paulo | Brazil | 82-3691
Challenger Development Corp | Canada | 82-3666
Champion Natural Health Com Inc | Canada | 82-4485
Cheung Kong Holdings Ltd | Hong Kong | 82-4138
Chevalier International Holdings | Bermuda | 82-4203
Chevalier iTech Holdings Ltd | Bermuda | 82-4201
China Oilfield Services Ltd | China | 82-34696
China Pharmaceutical Group Ltd | Hong Kong | 82-4135
China Resources Enterprise Ltd | Hong Kong | 82-4177
China Shipping Container Lines | China | 82-34857
China Steel Corp | Taiwan | 82-3296
China Strategic Holdings Ltd | Hong Kong | 82-3596
Chinacast Communications Holdings Ltd | Bermuda | 82-34811
Chitaly Holdings Ltd | Cayman Islands | 82-34829
Chr. Hansen Holding A/S | Denmark | 82-34732
Chugai Pharmaceutical Co. Ltd | Japan | 82-34668
CITIC Pacific Ltd | Hong Kong | 82-5232
Citigold Corp Ltd | Australia | 82-4493
CML Microsystems plc | United Kingdom | 82-3176
Coca Cola Amatil Ltd | Australia | 82-2994
COL Capital Ltd | Bermuda | 82-3654
Coloplast A/S | Denmark | 82-34793
Columbia Yukon Exploration | Canada | 82-34776
Commercial International Bank | Egypt | 82-34764
Companhia Acos Especiais Itabira-Acesita | Brazil | 82-3769
Companhia de Transmissao de Energeria Electrica Paulista | Brazil | 82-4980
Companhia Force E Luz Cataguazes Leopoldina | Brazil | 82-5147
Companhia Siderurgica Belgo Mineira | Brazil | 82-3771
Companhia Suzano De Papel E Celulose | Brazil | 82-3550
Compass Group plc | United Kingdom | 82-5161
Continental Aktiengesellschaft | Germany | 82-1357
Corporacion Geo S.A. de C.V | Mexico | 82-3870
Corporacion Mapfre Co. Internacional de Reaseguros SA | Spain | 82-1987
Credit Agricole S.A | France | 82-34771
Credit Suisse First Boston | Switzerland | 82-4705
CSK Corporation | Japan | 82-781
CSM nv | Netherlands | 82-34886
Cue Energy Resources Limited | New Zealand | 82-34692
Cybird Co. Ltd | Japan | 82-5139
Cycle & Carriage Ltd | Singapore | 82-3163
Daido Life Insurance Co | Japan | 82-34658
Dairy Farm International Holdings Ltd | Hong Kong | 82-2962
Danisco SA | Denmark | 82-3158
Datang International Power Generation Co. Ltd | China | 82-5186
David Jones Limited | Australia | 82-4230
Davide Campari Milano S.p.A | Italy | 82-5203
Day Software Holding AG | Switzerland | 82-34849
DBS Group Holdings Ltd | Singapore | 82-3172
De Longhi S.p.A | Italy | 82-34652
Deer Creek Energy Ltd | Canada | 82-34856
Del Monte Pacific Ltd | British Virgin Islands | 82-5068
Den Danske Bank Aktieselskab | Denmark | 82-1263
Dentsu Inc | Japan | 82-5241
DEPFA Bank | Ireland | 82-34794
DEPFA Deutsche Pfandbriefbank AG | Germany | 82-4822
Deutsche Beteiligungs Holding AG | Germany | 82-4977
Deutsche Lufthansa AG | Germany | 82-4691
Deutsche Postbank AG | Germany | 82-34848
Dexia Belgium | Belgium | 82-4606
Digiwave Technologies Inc | Korea | 82-34844
Dixons Group plc | United Kingdom | 82-3331
Dofasco Inc | Canada | 82-3226
DSM N.V | Netherlands | 82-3120
Dynasty Gold Corp | Canada | 82-1756
E New Media Co. Ltd | Hong Kong | 82-5101
East Japan Railway Co | Japan | 82-4990
Eastmain Resources Inc | Canada | 82-4421
Edcon Consolidated Stores Ltd | South Africa | 82-34767
Editora Saraiva S.A | Brazil | 82-5046
Eiffel Technologies Ltd | Australia | 82-34747
Eisai Co. Ltd | Japan | 82-4015
E-Kong Group Ltd | Bermuda | 82-34653
Electric Power Development Co Ltd | Japan | 82-34827
Electrocomponents plc | United Kingdom | 82-34672
Elementis plc | United Kingdom | 82-34751
Elpida Memory Inc | Japan | 82-34850
Emgold Mining Corp | Canada | 82-3003
EMI Group plc | United Kingdom | 82-373
EnviroMission Limited | Australia | 82-34693
EpiTan Limited | Australia | 82-34790
Erciyas Biracilik ve Malt Sanayi AS | Turkey | 82-4144
Erste Bank | Austria | 82-5066
Essilor International | France | 82-4944
European Aeronautic Defence & Space Co | Netherlands | 82-34662
Eurotunnel plc | United Kingdom | 82-3000
Eurotunnel S.A | France | 82-2999
Evergreen Forests Ltd | New Zealand | 82-4114
Exel plc | United Kingdom | 82-34655
Fairborne Energy Ltd | Australia | 82-34863
FANCL Corporation | Japan | 82-5032
Far East Pharmaceutical Technology Co Ltd | Cayman Islands | 82-34768
Ferreyros SA | Peru | 82-34695
Filtrona plc | United Kingdom | 82-34882
First Australian Resources N.L | Australia | 82-3494
First Majestic Resource | Canada | 82-34833
First Pacific Co. Ltd | Hong Kong | 82-836
First Quantum Minerals Ltd | Canada | 82-4461
First Silver Reserve Inc | Canada | 82-3449
Fisher & Paykel Appliance | New Zealand | 82-34868
FJA AG | Germany | 82-5077
Focus Energy Trust | Canada | 82-34761
Fomento de Construcciones y Contratas SA | Spain | 82-3743
Forenings Sparbanken AB | Sweden | 82-4092
Fortis Amev | Belgium | 82-3118
Fortis S.A./N.V | Belgium | 82-5234
Foschini Ltd | South Africa | 82-4044
Fosters Brewing Group Ltd | Australia | 82-1711
Fraser Papers Inc | Canada | 82-34837
Friends Provident plc | United Kingdom | 82-34640
Frutarom Industries Ltd | Israel | 82-4357
Fuji Photo Film Co. Ltd | Japan | 82-78
Fuji Television Network | Japan | 82-5176
Fujitsu Support & Service | Japan | 82-4885
Fullcast Co. Ltd | Japan | 82-34859
Funai Electric Ltd | Japan | 82-5078
G. Accion S.A. de C.V | Mexico | 82-4590
Gambro AB | Sweden | 82-34731
Gamesa S.A | Spain | 82-5201
Gene Medix Plc | United Kingdom | 82-34784
General Minerals Corp | Canada | 82-34810
Genetic Technologies Ltd | Australia | 82-34627
Genting Berhad | Malaysia | 82-4962
GGL Diamond Corp | Canada | 82-1209
Giordano International Ltd | Bermuda | 82-3780
Gitennes Exploration Inc | Canada | 82-4170
Givaudan SA | Switzerland | 82-5087
GKN PLC | United Kingdom | 82-5204
Glanbia Public Ltd | Ireland | 82-4734
Global Alumina Corp | Canada | 82-34874
Global Cogenix Industrial | Canada | 82-2990
Globel Direct Inc | Canada | 82-5084
Glorious Sun Enterprises Ltd | Bermuda | 82-4581
Golconda Resources Ltd | Canada | 82-3167
Gold Peak Industries (Holdings) Ltd | Hong Kong | 82-3604
Goldas Kuyumculuk Sanayi Ithalat Ihracat AS | Turkey | 82-5223
Goldcliff Resource Corp | Canada | 82-2748
Golden Arch Resources Ltd | Canada | 82-659
Golden Hope Mines Ltd | Canada | 82-3023
GPT Management Ltd | Australia | 82-34819
Gradipore Limited | Australia | 82-34799
Grande Cache Coal Corp | Canada | 82-34802
Great-West Lifeco Inc | Canada | 82-34728
Greencore Group plc | Ireland | 82-4908
Grupo Carso S.A. de C.V | Mexico | 82-3175
Grupo Ferrovial S.A | Spain | 82-4939
Grupo Financiero BBVA Bancomer S.A. de C.V | Mexico | 82-3273
Grupo Financiero Inbursa S.A. de C.V | Mexico | 82-4243
Grupo Gigante, S.A. de C.V | Mexico | 82-3142
Grupo Herdez S.A. de C.V | Mexico | 82-3818
Grupo Industrial Saltillo | Mexico | 82-5019
Grupo Media Capital SA | Portugal | 82-34873
Grupo Melo S.A | Panama | 82-4893
Grupo Minsa SA DE CV | Mexico | 82-4453
Grupo Modelo S.A. de C.V | Mexico | 82-34766
Grupo Posadas S.A. de C.V | Mexico | 82-3274
GTECH International Resources Ltd | Canada | 82-3779
Guangzhou Investment Co. Ltd | Hong Kong | 82-4247
GUS plc | United Kingdom | 82-5017
H. Lundbeck A.S | Denmark | 82-4973
Hagemeyer N.V | Netherlands | 82-4865
Hang Lung Properties Ltd | Hong Kong | 82-3410
Hang Seng Bank Ltd | Hong Kong | 82-1747
Hannover Ruckversicherungs Aktiengesells | Germany | 82-4627
Hansom Eastern Holdings Ltd | Cayman Islands | 82-4152
HBOS plc | United Kingdom | 82-5222
Heineken Holding N.V | Netherlands | 82-5149
Heineken N.V | Netherlands | 82-4953
Henderson Group PLC | United Kingdom | 82-34758
Henderson Investment Ltd | Hong Kong | 82-3964
Henderson Land Development Co. Ltd | Hong Kong | 82-1561
Henkel KGAA | Germany | 82-4437
Herald Resources Ltd | Australia | 82-4295
Highpine Oil & Gas Ltd | Canada | 82-34869
Highveld Steel & Vanadium Corp Ltd | South Africa | 82-596
Hikari Tsushin Inc | Japan | 82-4998
Hilasal Mexicana S.A. de C.V | Mexico | 82-4743
Hilton Group plc | United Kingdom | 82-1571
Hindalco Industries Ltd | India | 82-3428
Hip Interactive Corp | Canada | 82-34720
Holcim Ltd | Switzerland | 82-4093
Hong Kong & China Gas Company Ltd | Hong Kong | 82-1543
Hong Kong Electric Holdings | Hong Kong | 82-4086
Hopewell Highway Infrastructure Ltd | Hong Kong | 82-34781
Hopewell Holdings Ltd | Hong Kong | 82-1547
Horizon Technology Group | Ireland | 82-34782
Hornbach-Baumarkt AG | Germany | 82-3729
Hoya Corp | Japan | 82-34801
Huadian Power International Corp Ltd | China | 82-4932
Hylsamex S.A. de C.V | Mexico | 82-4252
Hypo Real Estate Holding AG | Germany | 82-34748
Hypothekenbank in Essen AG | Germany | 82-4883
Hysan Development Company Ltd | Hong Kong | 82-1617
Hyundai Motor Company | Korea | 82-3423
I.T.C. Limited | India | 82-3470
IEM S.A. de C.V | Mexico | 82-2337
Impala Platinum Holdings Ltd | South Africa | 82-359
Imperial Metals Corp | Canada | 82-34714
Imperial One International Ltd | Australia | 82-1257
InBev SA | Belgium | 82-5159
Inca Pacific Resources Inc | Canada | 82-1665
Industria de Diseno Textil S.A | Spain | 82-5185
Inpex Corp | Japan | 82-34839
Insurance Australia Group Ltd | Australia | 82-34821
Interconexion Electrica | Colombia | 82-34786
International Health Partners Inc | Canada | 82-4868
International PBX Ventures Ltd | Canada | 82-2635
International Road Dynamics Inc | Canada | 82-3899
Interpump Group S.p.A | Italy | 82-4511
Invensys plc | United Kingdom | 82-2142
Investor AB | Sweden | 82-34698
IochpeMaxion S.A | Brazil | 82-3722
IT Holding SpA | Italy | 82-4728
Italian Thai Development Public Co. Ltd | Thailand | 82-4299
Jamaica Broilers Group Ltd | Jamaica | 82-3720
Jannock Properties Ltd | Canada | 82-5062
Japan Airlines Company Ltd | Japan | 82-122
Japan Future Information Technology & Systems | Japan | 82-34657
Japan Retail Fund Investment Corp | Japan | 82-34716
Japan Tobacco Inc | Japan | 82-4362
Jardine Matheson Holdings Ltd | Bermuda | 82-2963
Jardine Strategic Holdings Ltd | Bermuda | 82-3085
Jasmine International Public Co. Ltd | Thailand | 82-4876
JCDecaux S.A | France | 82-34631
JD Group Limited | South Africa | 82-4401
JG Summit Holdings Inc | Philippines | 82-3572
Johnnic Communications Ltd | South Africa | 82-5184
Johnnic Holdings Ltd | South Africa | 82-5128
Johnson Electric Holdings Ltd | Hong Kong | 82-2416
JSAT Corp | Japan | 82-5111
JSC Irkutskenergo | Russia | 82-4458
Jupiter Telecommunications | Japan | 82-34800
K Wah Construction Materials Ltd | Hong Kong | 82-3850
Kao Corp | Japan | 82-34759
Kasikornbank Public Co | Thailand | 82-4922
Kawasaki Heavy Industries Ltd | Japan | 82-4389
KCT Konecranes plc | Finland | 82-4297
Keells John Holdings Ltd | Sri Lanka | 82-3854
Keika Express Co. Ltd | Japan | 82-34718
Kelda Group plc | United Kingdom | 82-2782
Kelso Technologies Inc | Canada | 82-2441
Kerry Group PLC | Ireland | 82-34842
KGHM Polska Miedz S.A | Poland | 82-4639
Khmelnitskoblenergo | Russia | 82-4996
Kidde plc | United Kingdom | 82-5153
Kimberly Clark de Mexico S.A. de C.V | Mexico | 82-3308
Kingfisher plc | United Kingdom | 82-968
Kirin Brewery Co | Japan | 82-188
Klabin S.A | Brazil | 82-34628
Kobe Steel Ltd | Japan | 82-3371
Komercni Banka A.S | Czech Republic | 82-4154
Kontron AG | Germany | 82-34840
Krones AG | Germany | 82-3871
Kuala Lumpur Kepong Berhad | Malaysia | 82-5022
Kumba Resources Ltd | South Africa | 82-5217
Kvaerner AS | Norway | 82-3745
Lagardere Groupe SCA | France | 82-3916
Lake Shore Gold Corporation | Canada | 82-34769
Landesbank Rheinland-Phalz | Germany | 82-4930
Lanxess AG | Germany | 82-34846
Legacy Hotels Real Estate Investment Trust | Canada | 82-34729
Legal & General Group plc | United Kingdom | 82-3664
Lenzing AG | Austria | 82-3207
LG Electronics Inc | Korea | 82-3857
Liberty Group Ltd | South Africa | 82-3924
Liberty International plc | United Kingdom | 82-34722
Lindsey Morden Group | Canada | 82-5143
Loblaw Companies Ltd | Canada | 82-4918
Lonmin plc | United Kingdom | 82-191
Lopro Corp | Japan | 82-4664
L'Oreal | France | 82-735
Lukoil Oil Co | Russia | 82-4006
M Cell Limited | South Africa | 82-5192
Macquarie Bank Ltd | Australia | 82-34740
Magician Industries Holdings Inc | Bermuda | 82-4358
Malayan Banking Berhad | Malaysia | 82-34861
Man Group plc | United Kingdom | 82-4214
Mandarin Oriental International Ltd | Hong Kong | 82-2955
Manila Electric Co | Philippines | 82-3237
Marks & Spencer Group plc | United Kingdom | 82-1961
Marubeni Corp | Japan | 82-616
Matsui Securities Co. Ltd | Japan | 82-5215
Maximum Ventures Inc | Canada | 82-3923
Mayr Melnhof Karton AG | Austria | 82-4052
MCK Mining Corp | Canada | 82-3938
Mediaset S.p.A | Italy | 82-4515
Mercantil Servicios Financieros C.A | Venezuela | 82-4648
Metabolic Pharmaceuticals Ltd | Australia | 82-34880
Metcash Holdings Limited | Australia | 82-34788
Metoz Holding Ltd | South Africa | 82-4279
Metropolitan Holdings Ltd | South Africa | 82-34755
Mexgold Resources Inc | Canada | 82-34749
Michael Page International plc | United Kingdom | 82-5162
Michelin Compagnie Generale des Etablissements | France | 82-3354
Millipede International Ltd | Australia | 82-34887
MIM Holdings Ltd | Australia | 82-173
Minebea Co. Ltd | Japan | 82-4551
Misr International Bank S.A.E | Egypt | 82-4629
Mitsubishi Corp | Japan | 82-3784
MJ Maillis S.A | Greece | 82-4975
Mobistar N.V./S.A | Belgium | 82-4965
Mol Rt | Hungry | 82-4224
Morgan Crucible Co. plc | United Kingdom | 82-3387
Mount Burgess Gold Mining Co | Australia | 82-1235
M-real Corp | Finland | 82-3696
Multiemedia Ltd | Australia | 82-34803
Mystique Energy Inc | Canada | 82-34712
Mytravel Group | United Kingdom | 82-5049
Nampak Limited | South Africa | 82-3714
National Bank of Canada | Canada | 82-3764
NEC Electronics Corp | Japan | 82-34733
Nedcor Ltd | South Africa | 82-3893
Nestle S.A | Switzerland | 82-1252
New World Development Co. Ltd | Hong Kong | 82-2971
Newalta Income Fund | Canada | 82-34834
Nintendo Co. Ltd | Japan | 82-2544
Nippon Mining Holdings | Japan | 82-34805
Nippon Steel Corp | Japan | 82-5175
Nissan Motor Co | Japan | 82-207
Nomura Research Institute Ltd | Japan | 82-34673
Northern Abitibi Mining Corp | Canada | 82-4749
Northwest Co. Fund | Canada | 82-34737
Norwood Abbey Ltd | Australia | 82-34754
NQL Drilling Tools Inc | Canada | 82-7052
NTT Urban Development Corp | Japan | 82-34835
Nutreco Holding N.V | Netherlands | 82-4927
NV Umicore S.A | Belgium | 82-3876
Nyzhniodniprovsky Pipe Rolling Plant | Ukraine | 82-4814
OAO OMZ | Russia | 82-5063
Occupational & Medical Innovations Ltd | Australia | 82-5174
OJSC Concern Kalina | Russia | 82-34847
OJSC Marganetsky Ore Mining & Processing | Ukraine | 82-34710
OJSC Ordzhonikidzevsky Ore Mining & Processing | Russia | 82-34664
OJSC Petersburg Telephone Network | Russia | 82-5197
OJSC RBC Information Systems | Russia | 82-34864
OJSC Scientific Production Corporation Irkut | Russia | 82-34818
OJSC Volga Telecom | Russia | 82-4642
Old Mutual plc | United Kingdom | 82-4974
Olympus Optical Co. Ltd | Japan | 82-3326
Omega Project Co. Ltd | Japan | 82-5030
Omron Corp | Japan | 82-1170
OMV AG | Austria | 82-3209
Onfem Holdings Ltd | Bermuda | 82-3735
Ontzinc corporation | Canada | 82-34778
Open Joint Stock Company Dniproenergo | Ukraine | 82-4844
Open Joint Stock Company Ukrnafta | Ukraine | 82-4859
Option N.V | Belgium | 82-34875
Orange S.A | France | 82-5168
Orbis S.A | Poland | 82-5025
Orkla AS | Norway | 82-3998
Osterreichische Elektrizitatswirtschafts | Austria | 82-4381
Pacific Topaz Resources Ltd | Canada | 82-1285
PagesJaunes | France | 82-34860
Palfinger AG | Austria | 82-34843
Paperlinx Ltd | Australia | 82-5061
Paul Y ITC Construction Holdings Ltd | Bermuda | 82-4217
Perfect Fry Corp | Canada | 82-1609
Peter Hambro Mining plc | United Kingdom | 82-34734
Petrobank Energy Resources Ltd | Canada | 82-34812
Peyto Energy Trust | Canada | 82-34773
Pharmaxis Ltd | Australia | 82-34813
Phoenix Canada Oil Co. Ltd | Canada | 82-3936
Pinault Printemps Redoute | France | 82-5179
Ping An Insurance Co of China Ltd | China | 82-34809
Points International Ltd | Canada | 82-34823
Polski Koncern Naftowy | Poland | 82-5036
Power Corp. of Canada | Canada | 82-137
Power Financial Corp | Canada | 82-1716
Prokom Software S.A | Poland | 82-4700
Promise Co. Ltd | Japan | 82-4837
PSP Swiss Property AG | Switzerland | 82-5052
PT Bank Buana Indonesia TBK | Indonesia | 82-34694
PTT Exploration & Production plc | Thailand | 82-3827
Public Power Corp. S.A | Greece | 82-34707
Qantas Airways | Australia | 82-4130
Q P Corporation | Japan | 82-4750
QRSciences Holdings Ltd | Australia | 82-34852
Quantum Energy Ltd | Australia | 82-34877
Rabobank Nederland | Netherlands | 82-5010
Raffles Medical Group | Singapore | 82-4926
Randstad Holding NV | Netherlands | 82-4956
RAO Gazprom | Russia | 82-4670
Raytec Development Corp | Canada | 82-3553
RE Power Systems AG | Germany | 82-34654
Redflex Holdings Ltd | Australia | 82-34862
ReGen Therapeutics PLC | United Kingdom | 82-34822
Regenera Ltd | Australia | 82-34831
Reliance Industries Ltd | India | 82-3300
Remgro Ltd | South Africa | 82-5106
Renault SA | France | 82-4001
Rentokil Initial 2005 plc | United Kingdom | 82-34878
Rentokil Initial plc | United Kingdom | 82-3806
Resorts World Berhad | Malaysia | 82-3229
Rexam plc | United Kingdom | 82-3
Rich Minerals Corp | Canada | 82-2832
Roche Holding Ltd | Switzerland | 82-3315
Rock Energy Inc | Canada | 82-34785
Rolls Royce Group plc | United Kingdom | 82-34721
Royal P&O Nedlloyd NV | Netherlands | 82-1056
Royal Wessanen NV | Netherlands | 82-1306
S.A. Fabrica de Productos Alimenticios | Brazil | 82-4870
SABMiller plc | United Kingdom | 82-4938
Sage Group Ltd | South Africa | 82-4241
Sage Group plc | United Kingdom | 82-34736
Sahaviriya Steel Industries plc | Thailand | 82-5008
SAIA-Burgess Electronics Holding AG | Switzerland | 82-4810
Sainsbury J plc | United Kingdom | 82-913
Saipem S.p.A | Italy | 82-4776
Sam's Seafood Holdings Ltd | Australia | 82-34648
Samsung Electronics Co. Ltd | Korea | 82-3109
Sancor Cooperativas Unidas Ltd | Argentina | 82-4476
Sandvik AB | Sweden | 82-1463
Santos Ltd | Australia | 82-34
Sanyo Electric Co | Japan | 82-264
Sao Paulo Alpargatas SA | Brazil | 82-3692
Saputo Inc | Canada | 82-34670
Sare Holdings SA de CV | Mexico | 82-34791
Saskatchewan Wheat Pool | Canada | 82-5037
Schneider Electric SA | France | 82-3706
Schwarz Pharma AG | Germany | 82-4406
SCMP Group Ltd | Bermuda | 82-3327
Securitas AB | Sweden | 82-34719
Sega Sammy Holdings Ltd | Japan | 82-34816
Seiko Epson Corp | Japan | 82-34746
Sekisui House Ltd | Japan | 82-5129
Sembcorp Industries Ltd | Singapore | 82-5109
Severn Trent plc | United Kingdom | 82-2819
Shanghai Industrial Holdings Ltd | China | 82-5160
Shangri La Asia Ltd | Bermuda | 82-5006
Sharp Corp | Japan | 82-1116
Shin Corp. Public Co. Ltd | Thailand | 82-3140
Shin Satellite Public Co. Ltd | Thailand | 82-4527
Shinsei Bank Limited | Japan | 82-34775
Shiseido Company Ltd | Japan | 82-3311
Shun Tak Holdings Ltd | Hong Kong | 82-3357
Siam Commercial Bank Public Co. Ltd | Thailand | 82-4345
Silverstone Corp Berhad | Malaysia | 82-3319
Singapore Airport Terminal Services Ltd | Singapore | 82-5117
Singapore Telecommunications Ltd | Singapore | 82-3622
Singer N.V | Netherlands | 82-34635
Sirit Inc | Canada | 82-3200
Skandinaviska Enskilda Banken | Sweden | 82-3637
Sky Perfect Communications | Japan | 82-5113
Slovnaft A.S | Slovak Republic | 82-3721
Smiths Group plc | United Kingdom | 82-34872
Snackie Jacks Ltd | Canada | 82-34724
SNECMA | France | 82-34845
Societe Generale | France | 82-3501
Sogecable S.A | Spain | 82-4981
Solbec Pharmaceuticals Ltd | Australia | 82-34866
Southcorp Holdings Ltd | Australia | 82-2692
Southern Telecommunications Co | Russia | 82-4721
St. George Bank Ltd | Australia | 82-3809
St. Jude Resources Ltd | Canada | 82-4014
Standard Chartered plc | United Kingdom | 82-5188
Starlight International Holdings Ltd | Bermuda | 82-3594
Starpharma Holdings | Australia | 82-34832
Starrex Mining Corp. Ltd | Canada | 82-3755
State Bank of India | India | 82-4524
Steinhoff International Holdings Ltd | South Africa | 82-34722
Stina Resources Ltd | Canada | 82-2062
Strategic Technologies Inc | Canada | 82-1548
Studsvik AB | Sweden | 82-5172
Sultan Minerals Inc | Canada | 82-4741
Sumitomo Corp | Japan | 82-34680
Sumitomo Metal Industries Ltd | Japan | 82-3507
Sumitomo Mitsui Financial Group Inc | Japan | 82-4395
Sumitomo Trust & Banking Co. Ltd | Japan | 82-4617
Sun Hung Kai Properties Ltd | Hong Kong | 82-1755
Superior Diamonds Inc | Canada | 82-34752
Superior Plus Income Fund | Canada | 82-34838
Suzano Petroquimica SA | Brazil | 82-34667
Svenska Cellulosa Aktiebolagot | Sweden | 82-763
Swire Pacific Ltd | Hong Kong | 82-2184
Swiss Reinsurance Co | Switzerland | 82-4248
T & D Holdings Inc | United Kingdom | 82-34783
Tabcorp Holdings Ltd | Australia | 82-3841
Tai Cheung Holdings Ltd | Bermuda | 82-3528
Tate & Lyle plc | United Kingdom | 82-905
Taylor Nelson Sofres plc | United Kingdom | 82-4668
Techtronic Industries Co. Ltd | Hong Kong | 82-3648
Telefonica Empresas Peru SAA | Peru | 82-34646
Telefonica Moviles Peru Holding S.A.A | Peru | 82-34645
Telepizza | Spain | 82-5001
Tencent Holdings Limited | Cayman Islands | 82-34792
TFS | Switzerland | 82-5095
Theralase Technologies Inc | Canada | 82-3759
TNR Gold Corp | Canada | 82-4434
Tofas Turk Otomobil Fabrikasi AS | Turkey | 82-3699
Tomorrow International Holdings Ltd | Bermuda | 82-4256
TomTom N.V | Netherlands | 82-34879
T-Online International AG | Germany | 82-5125
Toyota Industries Corporation | Japan | 82-5112
Tractebel Energia | Brazil | 82-4760
Tradehold Ltd | South Africa | 82-5238
TravelSky Technology Ltd | China | 82-34687
Tridelta plc | Ireland | 82-34853
Trilogy Energy Trust | Canada | 82-34876
Trinidad Energy Services Income Trust | Canada | 82-34867
Truly International Holdings | Cayman Islands | 82-3700
Tsingtao Brewery Company Ltd | China | 82-4021
U.S. Commercial Corp. S.A. de C.V | Mexico | 82-34669
Unefon Holdings S.A | Mexico | 82-34826
Uni Charm Corp | Japan | 82-4985
UNI President Enterprises Co | Taiwan | 82-3424
Unicharm Corporation | Japan | 82-4985
Unicredito Italiano | Italy | 82-3185
United Bank for Africa plc | Nigeria | 82-4804
United Overseas Bank Ltd | Singapore | 82-2947
Univar N.V | Netherlands | 82-34796
Urbi Desarollos Urbanos S.A. de C.V | Mexico | 82-34797
Usinas Siderurgicas de Minas Gerais S.A | Brazil | 82-3902
Utair Aviation | Russia | 82-4789
VA Technologie AG | Austria | 82-3910
Valeo S.A | France | 82-3668
Valerie Resources Ltd | Canada | 82-3339
Vangold Resources Ltd | Canada | 82-2891
Velcro Industries. N.V | Netherlands Antilles | 82-145
Venfin Ltd | South Africa | 82-3760
Ventracor Ltd | Australia | 82-4630
Vestas Wind Systems | Denmark | 82-34884
Victoria Resources Corporation | Canada | 82-2888
Village Roadshow Ltd | Australia | 82-4513
VNU N.V. | Netherlands | 82-2876
Vodatel Networks Holdings Ltd | Bermuda | 82-5146
Vossloh AG | Germany | 82-34795
VRB Power Systems Inc | Canada | 82-34688
VSMPO-AVISMA Corp | Russia | 82-4963
Vtech Holdings Ltd | Bermuda | 82-3565
Wal Mart de Mexico S.A. de C.V | Mexico | 82-4609
Wanadoo | France | 82-5150
Washtec AG | Germany | 82-4888
West Japan Railway Co | Japan | 82-34777
Western Areas Ltd | South Africa | 82-268
Westone Ventures Inc | Canada | 82-4890
Wolford AG | Austria | 82-4403
Wolfson Microelectronics plc | United Kingdom | 82-34753
Wolters Kluwer N.V | Netherlands | 82-2683
Woodside Petroleum Ltd | Australia | 82-2280
WorleyParsons Ltd | Australia | 82-34858
WPN Resources Ltd | Canada | 82-2418
Wrightson Ltd | New Zealand | 82-3646
X-Cal Resources Ltd | Canada | 82-1655
Xinhua Finance Ltd | Cayman Islands | 82-34883
Xstrata plc | United Kingdom | 82-34660
Yamaha Corp | Japan | 82-34717
Yara International ASA | Norway | 82-34770
Yeebo International Holdings Ltd | Bermuda | 82-3869
Yell Group plc | United Kingdom | 82-34674
Zhejiang Expressway Co. Ltd | China | 82-34629
Zurich Financial Services | Switzerland | 82-5089

[FR Doc. 05-12663 Filed 6-27-05; 8:45 am]

BILLING CODE 8010-01-P